DEPARTMENT OF ENERGY

Federal Energy Regulatory Commission

[Project No. 13328-001]

Cordova Electric Cooperative, Inc.; Notice of Intent To File License Application, Filing of Pre-Application Document, and Approving Use of the Alternative Licensing Procedures

December 24, 2009.

a. Type of Filing: Notice of Intent to File License Application, Filing of Pre-Application Document, and Approving Use of the Alternative Licensing Procedures.

b. Project No.: 13328-001.

c. Dated Filed: October 28, 2009.

d. Submitted by: Cordova Electric Cooperative, Inc. (Cordova Electric).

e. Name of Project: Snyder Falls Creek Hydroelectric Project.

f. Location: On Snyder Falls Creek, near the town of Cordova, Alaska. The project would occupy lands within the Chugach National Forest administered by the U.S. Forest Service.

g. Filed Pursuant to: 18 CFR 5.3 of the Commission's regulations.

h. Applicant Contact: Clay Koplin, CEO, Cordova Electric Cooperative, Inc., 705 Second Street, Cordova, Alaska 99574; (907) 424-5026; e-mail at ckoplin@cordovaelectric.com.

i. FERC Contact: Steve Hocking at (202) 502-8753; or e-mail at steve.hocking@ferc.gov.

j. Cordova Electric filed a request to use the Alternative Licensing Procedures on October 28, 2009. Cordova Electric issued a public notice of its request on November 5, 2009. In a letter dated December 24, 2009, the Director, Division of Hydropower Licensing approved Cordova Electric's request to use the Alternative Licensing Procedures.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR section 600.920; and (c) the Alaska State Historic Preservation Officer, as required by section 106, National Historic Preservation Act, and the implementing regulations of the Advisory Council on Historic Preservation at 36 CFR section 800.2.

l. With this notice, we are designating Cordova Electric as the Commission's non-federal representative for carrying out informal consultation, pursuant to section 7 of the Endangered Species Act, section 305 of the Magnuson-Stevens Fishery Conservation and Management Act, and section 106 of the National Historic Preservation Act.

m. Cordova Electric filed a Pre-Application Document (PAD; including a proposed process plan and schedule) with the Commission, pursuant to 18 CFR 5.6 of the Commission's regulations.

n. A copy of the PAD is available for review at the Commission in the Public Reference Room or may be viewed on the Commission's Web site at http://www.ferc.gov using the “eLibrary” link. Enter the docket number excluding the last three digits in the docket number field to access the document. For assistance, contact FERC Online Support at FERCONlineSupport@ferc.gov or toll free at (866) 208-3676, or for TTY, (202) 502-8659. A copy is also available for inspection and reproduction at the address in item h.

o. Register online at http://www.ferc.gov/docs-filing/esubscription.asp to be notified via e-mail of new filings and issuances related to this or other pending projects. For assistance, contact FERC Online Support.

Kimberly D. Bose,
Secretary.

[FR Doc. E9-31093 Filed 12-31-09; 8:45 am]

BILLING CODE 6717-01-P